DEPARTMENT OF THE INTERIOR

Fish and Wildlife Service

[FWS-HQ-OC-2024-N061; FXGO16600926000-256-FF09X60000]

Hunting and Wildlife Conservation Council Meeting

AGENCY: Fish and Wildlife Service, Interior.

ACTION: Notice of virtual meeting.

SUMMARY: The U.S. Fish and Wildlife Service (Service) gives notice of a virtual meeting of the Hunting and Wildlife Conservation Council (Council), in accordance with the Federal Advisory Committee Act.

DATES:

Meeting: The Council will meet on Tuesday, December 17, 2024, from 3 p.m. to 5 p.m. (eastern time).

Registration: Registration to attend or participate in the meeting is required. The registration deadline is Tuesday, December 10, 2024. To register, please contact the Designated Federal Officer (DFO) (see FOR FURTHER INFORMATION CONTACT).

Public Comment: If you wish to provide oral public comment or provide a written comment for the Council to consider, contact the DFO (see FOR FURTHER INFORMATION CONTACT) no later than Tuesday, December 10, 2024.

Accessibility and Other Accommodations: The deadline for accommodation requests is Tuesday, December 10, 2024. For more information, please see “Requests for Accommodations,” below.

ADDRESSES: The meeting will be held via a virtual meeting platform. To register and receive the web address and telephone number for virtual participation, contact the DFO (see FOR FURTHER INFORMATION CONTACT).

FOR FURTHER INFORMATION CONTACT: Douglas Hobbs, DFO, by email at doug_hobbs@fws.gov, or by telephone at 703-358-2336. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under the authority of the Federal Advisory Committee Act (5 U.S.C. chapter 10), the Hunting and Wildlife Conservation Council (Council) was established to further the provisions of the Fish and Wildlife Act of 1956 (16 U.S.C. 742a et seq.), the Federal Land Policy and Management Act of 1976 (43 U.S.C. 1701-1785), the National Wildlife Refuge System Improvement Act of 1997 (16 U.S.C. 668dd-ee), other statutes applicable to specific Department of the Interior bureaus, and Executive Order 13443 of August 16, 2007, “Facilitation of Hunting Heritage and Wildlife Conservation” (72 FR 46537, August 20, 2007). The Council's purpose is to provide recommendations to the Federal Government, through the Secretary of the Interior and the Secretary of Agriculture, regarding policies and endeavors that (a) benefit wildlife resources; (b) encourage partnership among the public, sporting conservation organizations, and Federal, State, Tribal, and territorial governments; and (c) benefit fair-chase recreational hunting and safe recreational shooting sports.

Meeting Agenda

Among other business to be addressed by the Council, the meeting will include a review and discussion of all Council recommendations made since December 2023.

The Council will also hear public comment if members of the public make such requests. The final agenda and other related meeting information will be available on the Council website, https://www.fws.gov/program/hwcc.

Public Input

Depending on the number of people who want to comment and the time available, the amount of time for individual oral comments may be limited. Interested parties should contact the DFO in writing (see FOR FURTHER INFORMATION CONTACT) for placement on the public speaker list for this meeting. Requests to address the Council during the meeting will be accommodated in the order the requests are received. Registered speakers who wish to expand upon their oral statements, or those who had wished to speak but could not be accommodated on the agenda, may submit written statements to the DFO up to 30 days following the meeting.

Requests for Accommodations

Please make requests in advance for sign language interpreter services, assistive listening devices, language translation services, or other reasonable accommodations. We ask that you contact the DFO in the FOR FURTHER INFORMATION CONTACT section of this notice by December 10, 2024, to give the U.S. Fish and Wildlife Service sufficient time to process your request. All reasonable accommodation requests are managed on a case-by-case basis.

Public Disclosure

Before including your address, phone number, email address, or other personal identifying information on any comments you might have about this notice, you should be aware that your entire comment—including your personal identifying information—may be made publicly available at any time. While you can ask us in your comment to withhold your personal identifying information from public review, we cannot guarantee that we will be able to do so.

Authority

5 U.S.C. ch. 10.

Lesli Gray,
Assistant Director, Office of Communications.

[FR Doc. 2024-28056 Filed 11-27-24; 8:45 am]

BILLING CODE 4333-15-P